DEPARTMENT OF LABOR

Office of the Secretary

All Items Consumer Price Index for All Urban Consumers, United States City Average

Pursuant to Section 33105(c) of Title 49, United States Code, and the delegation of the Secretary of Transportation's responsibilities under that Act to the Administrator of the Federal Highway Administration (49 CFR 501.2(a)(9)), the Secretary of Labor has certified to the Administrator and published this notice in the Federal Register that the United States City Average All Items Consumer Price Index for All Urban Consumers (1967 = 100) increased 128.2 percent from its 1984 annual average of 311.1 to its 2015 annual average of 709.998.

Signed at Washington, DC, on the 19th day of April 2016.
Thomas E. Perez,
Secretary of Labor.

[FR Doc. 2016-10362 Filed 5-3-16; 8:45 am]

BILLING CODE 4510-24-P